DEPARTMENT OF AGRICULTURE

Food and Nutrition Service

Agency Information Collection Activities: Proposed Collection; Comment Request—Review of Supplemental Nutrition Assistance Program/Medicaid Eligibility Technology Integration

AGENCY: Food and Nutrition Service (FNS), USDA.

ACTION: Notice.

SUMMARY: In accordance with the Paperwork Reduction Act of 1995, this notice invites the general public and other public agencies to comment on this proposed information collection. This is a new collection for the purpose of identifying best practices and informing future FNS policy decisions pertaining to State eligibility system integration.

DATES: Written comments must be received on or before January 22, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Sasha Gersten-Paal, Food and Nutrition Service, U.S. Department of Agriculture, 3101 Park Center Drive, Room 812, Alexandria, VA 22302. Comments may also be submitted via fax to the attention of Sasha Gersten-Paal at 703-305-2454 or via email to Sasha.Gersten-Paal@fns.usda.gov. Comments will also be accepted through the Federal eRulemaking Portal. Go to http://www.regulations.gov, and follow the online instructions for submitting comments electronically.

All written comments will be open for public inspection at the office of the Food and Nutrition Service during regular business hours (8:30 a.m. to 5:00 p.m., Monday through Friday) at 3101 Park Center Drive, Room 1014 Alexandria, Virginia 22302.

All responses to this notice will be summarized and included in the request for Office of Management and Budget approval. All comments will be a matter of public record.

FOR FURTHER INFORMATION CONTACT: Requests for additional information or copies of this information collection should be directed to Jennifer McNabb at 703-305-2142.

SUPPLEMENTARY INFORMATION: Title: Review of Supplemental Nutrition Assistance Program/Medicaid Eligibility Technology Integration.

Form Number: N/A.

OMB Number: 0584-NEW.

Expiration Date: Not Yet Determined.

Type of Request: New information collection request.

Abstract: The Supplemental Nutrition Assistance Program (SNAP), (The Food and Nutrition Act of 2008 [As Amended Through Pub. L. 113-128, Enacted July 22, 2014]) provides nutrition assistance benefits to millions of eligible, low-income individuals and families nationwide. SNAP is administered by FNS, but operates at the State and local level. States have varying degrees of integration across their health and human service programs. To meet statutory requirements of the Patient Protection and Affordable Care Act (Pub. L. 111-148), many States have altered their technical platforms and business processes. In order to assess how these changes may have positively or negatively impacted SNAP, FNS proposes to collect information on State agency structure, staffing, and operations; eligibility system and business process functions; application procedures; the nature of relationships and connections between Medicaid and SNAP; and other details relevant to understanding how clients engage State systems and ways in which their access to SNAP can be enhanced. Specifically, this information collection will be undertaken through administration of a voluntary Integration/Operations Survey to 50 States, the District of Columbia, Guam, and the U.S. Virgin Islands. Based on previous experience, we anticipate a 60 percent response rate (32 of 53 State SNAP directors).

Affected Public: 53 State, Local and Tribal Government Agencies: Respondent group identified includes approximately 32 State SNAP directors who will complete 1 survey annually which will take approximately 45 minutes each to complete.

Estimated Total Annual Number of Respondents: 32.

Estimated Total Annual Number of Responses per Respondent: 1.

Estimated Total Annual Responses: 32.

Estimated Time per Response: .75 hours per respondent.

Estimated Total Annual Burden on Respondents: 24 burden hours.

Dated: November 16, 2015.
Audrey Rowe,
Administrator, Food and Nutrition Service.

[FR Doc. 2015-29697 Filed 11-20-15; 8:45 am]

BILLING CODE 3410-30-P